DEPARTMENT OF HOMELAND SECURITY

U.S. Customs and Border Protection

Accreditation of St Laboratories Group, LLC, as a Commercial Laboratory

AGENCY: U.S. Customs and Border Protection, Department of Homeland Security.

ACTION: Notice of accreditation and approval of ST Laboratories Group, LLC, as a commercial laboratory.

SUMMARY: Notice is hereby given, pursuant to CBP regulations, that ST Laboratories Group, LLC, has been accredited to test petroleum and certain petroleum products for customs purposes for the next three years as of September 12, 2013.

DATES: Effective Dates: The accreditation and approval of ST Laboratories Group, LLC, as commercial laboratory became effective on September 12, 2013. The next triennial inspection date will be scheduled for September 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.12 that ST Laboratories Group, LLC, 1404 S. Houston Rd., Pasadena, TX 77502, has been accredited to test petroleum and certain petroleum products for customs purposes, in accordance with the provisions of 19 CFR 151.12. ST Laboratories Group, LLC is accredited for the following laboratory analysis procedures and methods for petroleum and certain petroleum products set forth by the U.S. Customs and Border Protection Laboratory Methods (CBPL) and American Society for Testing and Materials (ASTM):

CBPL No. | ASTM | Title
27-01 | D287 | API Gravity of crude Petroleum and Petroleum products (Hydrometer Method).
27-04 | D95 | Standard test method for water in petroleum products and bituminous materials by distillation.
27-05 | D4928-89 | Standard test method for water in crude oils by Coulometric Karl Fischer Titration.
27-06 | D473 | Standard Test method for sediment in crude oils and fuel oils by extraction method.
27-07 | D4807 | Standard test method for sediment in crude oil by membrane filtration.
27-08 | D86 | Standard Test method for distillation of petroleum products.
27-11 | D445 | Standard Test method of kinematic viscosity of transparent and opaque liquids.
27-13 | D4294 | Standard test method for sulfur in petroleum and petroleum products by energy-dispersive x-ray fluorescence spectrometry.
27-48 | D4052 | Standard test method for density and relative density of liquids by digital density meter.
27-50 | D93 | Standard test method for flash point by Pensky Martin Closed Cup Tester.
29-01 | D3797 | Test method for analysis of o-Xylene by Gas Chromatography.
29-02 | D3798 | Test method for Analysis of p-Xylene by Gas Chromatography.

Anyone wishing to employ this entity to conduct laboratory analyses should request and receive written assurances from the entity that it is accredited by the U.S. Customs and Border Protection to conduct the specific test requested. Alternatively, inquiries regarding the specific tests this entity is accredited or approved to perform may be directed to the U.S. Customs and Border Protection by calling (202) 344-1060. The inquiry may also be sent to cbp.labhq@dhs.gov. Please reference the Web site listed below for a complete listing of CBP approved gaugers and accredited laboratories.

http://cbp.gov/linkhandler/cgov/trade/basic_trade/labs_scientific_svcs/commercial_gaugers/gaulist.ctt/gaulist.pdf

Dated: January 3, 2014.
Ira S. Reese,
Executive Director, Laboratories and Scientific Services.

[FR Doc. 2014-00494 Filed 1-14-14; 8:45 am]

BILLING CODE 9111-14-P